DEPARTMENT OF HEALTH AND HUMAN SERVICES

Centers for Disease Control and Prevention

National Center for Environmental Health/Agency for Toxic Substances and Disease Registry

The Program Peer Review Subcommittee (PPRS) of the Board of Scientific Counselors (BSC), Centers for Disease Control and Prevention (CDC), National Center for Environmental Health/Agency for Toxic Substances and Disease Registry (NCEH/ATSDR): Teleconference.

In accordance with section 10(a)(2) of the Federal Advisory Committee Act (Pub. L. 92-463), CDC, NCEH/ATSDR announces the teleconference meeting of the aforementioned subcommittee:

Time and Date: 8:30 a.m.-10:30 a.m. Eastern Daylight Saving Time, March 19, 2007.

Place: The teleconference will originate at NCEH/ATSDR in Atlanta, Georgia. To participate, dial 877/315-6535 and enter conference code 383520.

Purpose: Under the charge of the BSC, NCEH/ATSDR, the PPRS will provide the BSC, NCEH/ATSDR with advice and recommendations on NCEH/ATSDR program peer review. They will serve the function of organizing, facilitating, and providing a long-term perspective to the conduct of NCEH/ATSDR program peer review.

Matters To Be Discussed: Review and approve previous meeting minutes; report on site-specific activities peer review; a discussion of preparedness and emergency response peer review: breadth and approach of the review, and areas of expertise required for the review; nominations for a PPRS panel member, a chairperson, peer reviewers, and partners and customers.

Agenda items are subject to change as priorities dictate.

SUPPLEMENTARY INFORMATION: This meeting is scheduled to begin at 9 a.m. Eastern Daylight Saving Time. To participate, please dial 877/315-6535 and enter conference code 383520. Public comment period is scheduled for 10 a.m.-10:15 a.m.

FOR MORE INFORMATION CONTACT: Sandra Malcom, Committee Management Specialist, Office of Science, NCEH/ATSDR, M/S E-28, 1600 Clifton Road, NE., Atlanta, Georgia 30333, telephone 404/498-0622.

The Director, Management Analysis and Services Office, has been delegated the authority to sign Federal Register notices pertaining to announcements of meetings and other committee management activities for both CDC and ATSDR.

Elaine L. Baker,
Acting Director, Management Analysis and Services Office, Centers for Disease Control and Prevention.

[FR Doc. E7-3372 Filed 2-26-07; 8:45 am]

BILLING CODE 4163-18-P